DEPARTMENT OF THE INTERIOR

Fish and Wildlife Service

[FWS-R1-R-2008-N0318; 1265-0000-10137-S3]

Fee Collection at Tualatin River National Wildlife Refuge, OR

AGENCY: Fish and Wildlife Service, Interior.

ACTION: Notice of intent to implement fee collection.

SUMMARY: We, the U.S. Fish and Wildlife Service (Service), announce our intent to collect an entrance fee at Tualatin River National Wildlife Refuge (Refuge), located in Oregon, as authorized by Federal Lands Recreation Enhancement Act (REA). Under REA provisions, the Refuge will identify and post specific visitor fees. The Refuge's proposed fees include a $2.00 per day per person fee or a $4.00 per day per vehicle fee (see proposed Fee Schedule under SUPPLEMENTARY INFORMATION).

DATES: Submit your comments on this action by March 19, 2009. Unless we publish a notice in the Federal Register withdrawing this action, we will begin collecting fees on August 17, 2009 at the Refuge.

ADDRESSES: Submit your comments by one of the following methods:

• By U.S. mail to: U.S. Fish and Wildlife Service, Attn: Branch of Visitor Services and Communications, 911 NE 11th Avenue, Portland, OR 97232.

• By fax to: (503) 231-6187.

• By e-mail to: Mike_Marxen@fws.gov.

FOR FURTHER INFORMATION CONTACT: Kim Strassburg or Ralph Webber at (503) 625-5944.

SUPPLEMENTARY INFORMATION: In an effort to meet increasing demands for services, and to maintain developed facilities, we announce our intent to implement an entrance fee at the Refuge under 16 U.S.C. 6802(e) of the REA. The Refuge plans to use collected fees to repair, maintain, and enhance visitor facilities. Here is the proposed entrance fee structure:

Tualatin River Refuge visitors | Entrance fee
1. Youth Ages 15 and Under | Free.
2. Daily Individual Entrance Fee (Fee is per person/per day, when arriving on foot, bicycle, as part of a tour group, or on a bus.) | $2.00
3. Daily Noncommercial Vehicle Entrance Fee (Fee is per single, private noncommercial vehicle.) | $4.00
4. Family Group Entrance Fee (Fee is the maximum per day, per family, when arriving on foot, bicycle, as part of a tour group, or on a bus) A family group is defined as up to four adults (16 years and older) and any number of children (15 years and under) | $4.00
5. Annual Tualatin River Refuge Pass (per single private noncommercial vehicle) valid for 1 year | $15.00 annually.

Special Provisions and Exceptions to the Entrance Fee Structure

National Public Lands Day (NPLD) is a “fee-free” day for all visitors to the Refuge. The National Environmental Education Foundation determines the date of NPLD. The Refuge may establish other “fee-free” days in conjunction with special events such as International Migratory Bird Day and National Wildlife Refuge Week.

The Refuge will not collect entrance fees from volunteers who are actively working on or for the Refuge during their scheduled duty times. Volunteers who contribute and record 80 hours of volunteer service or more during a fiscal year will receive an Annual Refuge Pass at no charge.

The Refuge will waive entrance fees for school groups participating in the Refuge's environmental education field trip program. However, all educators interested in bringing students to the Refuge in grades K-8 must first complete the Refuge's teacher workshop. The Refuge will also waive fees for secondary level and collegiate student field trips that support a larger unit of study.

The Refuge will waive site-specific entrance fees for enrolled members of the Confederated Tribes of the Grand Ronde with proper identification.

Passes in Lieu of Entrance Fees

The Refuge will participate in two pass programs, the Federal Duck Stamp and the America the Beautiful National Parks and Federal Recreational Lands Pass programs. The Refuge will honor and offer for purchase passes associated with these programs. Information on the programs is available on the Service's Internet site at http://www.fws.gov/duckstamps/ and http://www.fws.gov/refuges/visitors/passes.html. The Refuge will also honor Golden Eagle, Golden Age, and Golden Access passes. A list of passes the Refuge will honor and/or sell follows. If your pass is not listed, we encourage you to contact the Refuge and inquire about pass acceptance prior to your visit.

Passes honored by and/or available for purchase at the Refuge | Charge for pass
1. Federal Duck Stamp (valid for 1 year beginning July 1) | $15.00 annually.
2. America the Beautiful National Parks and Federal Recreational Lands
• Annual Pass | $80.00 annually.
• Senior Pass (lifetime pass for those who qualify) | One time fee of $10.00.
• Access Pass (lifetime pass for those who qualify) | Free.
3. Golden Eagle, Golden Age, and Golden Access Pass. The Refuge will honor these passes according to the provisions of each | Honored, but not available for purchase.
4. Annual Tualatin River Refuge Pass | $15.00 annually.

Entrance Fees Support Refuge Visitor Facilities

The Refuge plans to use collected fees to repair and maintain the following visitor facilities: trails, wildlife overlooks, a photography blind, environmental education study sites, interpretive signs, the Wildlife Center, public access roads, and parking lots. The Refuge will also use collected fees to purchase environmental education curriculum and equipment, interpretive publications, and exhibit materials. It is our policy to allow only activities that are appropriate and compatible with the specific site's purposes. In order to charge fees, the site must have the staff and resources to manage a fee activity as well as to collect and deposit money.

Public Availability of Comments

Before including your address, phone number, e-mail address, or other personal identifying information in your comment, you should be aware that your entire comment—including your personal identifying information—may be made publicly available at any time. While you can ask us in your comment to withhold your personal identifying information from public review, we cannot guarantee that we will be able to do so.

Authorities and Requirements of the REA

In December 2004, the REA became law (16 U.S.C. 6801-6814). The REA provides authority through December 2014 for the Secretaries of the Departments of the Interior and Agriculture (Secretaries) to establish, modify, charge, and collect recreation fees at some Federal recreation lands and waters, and contains specific provisions addressing public involvement in establishing recreation fees. The REA also directed the Secretaries to publish advance notice in the Federal Register whenever bureaus establish new recreation fee areas under their respective jurisdictions.

Should public comments provide substantive reasons why we should not collect fees at the Refuge, we may reevaluate our plan and publish a subsequent notice in the Federal Register withdrawing this action. Otherwise, fee collection at the Tualatin River Refuge for visitor facilities and programs will begin on the date specified in the DATES section of this document, and the Refuge will post fee amounts and expenditures onsite.

Authority: 16 U.S.C. 6801-6814.

Dated: January 6, 2009.
David J. Wesley,
Acting Regional Director, Region 1, Portland, Oregon.

[FR Doc. E9-3258 Filed 2-13-09; 8:45 am]

BILLING CODE 4310-55-P